DEPARTMENT OF COMMERCE

National Oceanic and Atmospheric Administration

50 CFR Parts 300 and 660

[Docket No. 031216314-3314-01; I.D. 042604D]

RIN 0648-AR54

Fisheries off West Coast States and in the Western Pacific; Pacific Coast Groundfish Fishery; Annual Specifications and Management Measures; Inseason Adjustments; Pacific Halibut Fisheries; Corrections

AGENCY: National Marine Fisheries Service (NMFS), National Oceanic and Atmospheric Administration (NOAA), Commerce.

ACTION: Inseason adjustments to management measures, announcement of incidental halibut retention allowance, and a request for comments.

SUMMARY: NMFS announces inseason adjustments to the Pacific Coast limited entry groundfish fishery and to the recreational groundfish fishery. NMFS also announces regulations for the retention of Pacific halibut landed incidentally in the limited entry longline primary sablefish fishery north of Pt. Chehalis, WA (46°53′18″ N. lat.) and changes to the primary sablefish fishery tier limits. This document also contains notification of a voluntary closed area (also called an “area to be avoided”) off Washington for commercial fixed gear sablefish fishermen and salmon trollers. Finally, this document contains a correction to the language in the limited entry trawl trip limit tables. These actions, which are authorized by the Pacific Coast Groundfish Fishery Management Plan (FMP), will allow fisheries access to more abundant groundfish stocks while protecting overfished and depleted stocks.

DATES: Changes to management measures are effective 0001 hours (local time) on May 1, 2004, until the 2005-2006 specifications and management measures are effective, unless modified, superseded, or rescinded through a publication in the Federal Register. Comments on this rule will be accepted through June 1, 2004.

ADDRESSES: You may submit comments, identified by docket number and/or RIN number, by any of the following methods:

• GroundfishInseason#2.nwr@noaa.gov. Include [docket number and/or RIN number] in the subject line of the message.

• Federal eRulemaking Portal: http://www.regulations.gov. Follow the instructions for submitting comments.

• Fax: 206-526-6736

• Mail: D. Robert Lohn, Administrator, Northwest Region, NMFS, 7600 Sand Point Way NE, Seattle, WA 98115-0070; or Rod McInnis, Acting Administrator, Southwest Region, NMFS, 501 West Ocean Blvd, Suite 4200, Long Beach, CA 90802-4213.

FOR FURTHER INFORMATION CONTACT: Carrie Nordeen (Northwest Region, NMFS), phone: 206-526-6150; fax: 206-526-6736; and e-mail: carrie.nordeen@noaa.gov.

SUPPLEMENTARY INFORMATION:

Electronic Access

This Federal Register document is available on the Government Printing Office's website at: www.gpoaccess.gov/fr/index.html.

Background information and documents are available at the NMFS Northwest Region website at: www.nwr.noaa.gov/1sustfsh/gdfsh01.htm and at the Pacific Fishery Management Council's website at: www.pcouncil.org.

Background

The Pacific Coast Groundfish FMP and its implementing regulations at 50 CFR part 660, subpart G, regulate fishing for over 80 species of groundfish off the coasts of Washington, Oregon, and California. Groundfish specifications and management measures are developed by the Pacific Fishery Management Council (Pacific Council), and are implemented by NMFS. The specifications and management measures for the 2004 fishing year (January 1-December 31, 2004) were initially published in the Federal Register as an emergency rule for January 1-February 29, 2004 (69 FR 1322, January 8, 2004) and as a proposed rule for March 1-December 31, 2004 (69 FR 1380, January 8, 2004). The emergency rule was amended at 69 FR 4084, January 28, 2004. The final rule for March 1-December 31, 2004 was published in the Federal Register on March 9, 2004 (69 FR 11064) and amended at 69 FR 23440, April 29, 2004.

The Northern Pacific Halibut Act of 1982 (16 U.S.C. 773-773k) (Halibut Act) and its implementing regulations at 50 CFR part 300, subpart E, regulate fishing for Pacific Halibut in U.S. Convention waters. The Halibut Act also authorizes the Pacific Council to develop regulations governing the Pacific halibut catch in waters off of Washington, Oregon, and California that are in addition to, but not in conflict with, regulations of the International Pacific Halibut Commission (IPHC). Accordingly, the Pacific Council has developed, and NMFS has approved, a catch sharing plan (CSP) to allocate the total allowable catch (TAC) of Pacific halibut between treaty Indian and non-Indian harvesters, and among non-Indian commercial and sport fisheries in IPHC statistical Area 2A (off Washington, Oregon, and California). The CSP, as implemented at 50 CFR part 300, provides for retention of halibut landed incidentally in the limited entry, longline primary sablefish fishery north of Pt. Chehalis, WA (46°53′18″ N. lat.) in years when the Area 2A TAC is above 900,000 lb (408.2 mt). Because the Area 2A TAC is above 900,000 lb (408.2 mt) in 2004, NMFS is establishing an allowance for incidental halibut retention in the primary sablefish fishery in 2004.

The following changes to current groundfish management measures were recommended by the Pacific Council, in consultation with Pacific Coast Treaty Tribes and the States of Washington, Oregon, and California, at its April 4-9, 2004, meeting in Sacramento, CA. Inseason adjustments to management measures are in response to several factors influencing projected catch of groundfish during 2004. These factors include (1) inseason adjustments to the Pacific Coast commercial and recreational groundfish fisheries published at 69 FR 23440, April 29, 2004,(2) projected catch in the limited entry trawl and fixed gear fisheries based on new observer data and bycatch model adjustments, (3) projected catch in the recreational fisheries off Washington, Oregon, and California based on 2003 catch, and (4) a reduction in limited entry trawl fleet effort due to the trawl buyback program. Pacific Coast groundfish landings will be monitored throughout the year, and further adjustments to trip limits or management measures will be made as necessary to allow achievement of or avoid exceeding the 2004 optimum yields (OYs).

Limited Entry Trawl Fishery

The trawl bycatch model, used to calculate total catch, discard, and incidental catch rates of groundfish species in the limited entry trawl fisheries, was updated during the winter of 2004. Major changes to the model included a revision of the trawl participation and catch database as well as changes to the incidental catch rates of overfished groundfish species. The trawl participation and catch database is used as an indicator of past limited entry trawl permit participation and landed catch. This database tracks a weighted average (based on activity during the last several years) of landed catch per limited entry trawl permit, bimonthly period, subarea, and depth. Because this database is one of the basic foundations of the trawl bycatch model, the model operates under the assumption that past performance is a reasonable proxy for what level of effort may occur in the future. The trawl bycatch model was updated to reflect changes in fleet structure as a result of the limited entry trawl permit and vessel buyback program conducted in late 2003. However, because buyback related fleet structure changes are continuing to occur, higher levels of uncertainty are associated with the trawl bycatch model's predictions of projected catch during 2004 than in previous years.

The incidental catch rates of overfished groundfish species used in the trawl bycatch model were updated by stratifying them by depth, subarea, and cumulative limit period. This is a change from the previous trawl bycatch model that only stratified incidental catch rates by depth and subarea. In early 2004, new West Coast Groundfish Observer Program (Observer Program) data were available and incorporated in the trawl bycatch model. With two years of data being used in the model, the Pacific Council sought the guidance of the Scientific and Statistical Committee's (SSC) about how to treat each year of data. Because more recent information is more likely to be representative of fishing behavior and catch data in the upcoming year, the SSC recommended a weighting scheme for observer data wherein the most recent data are weighted more heavily than older data. Therefore, NMFS weighted the 2003 observer data at two-thirds and the 2002 observer data at one third, then combined that weighted data from the two years to derive incidental catch rates for overfished species.

Following the 2004 updates to the trawl bycatch model, catch projections generated by the model were compared to landings data reported in the Pacific Coast Fisheries Information Network (PacFIN). The landed catch of DTS (Dover sole, thornyheads, sablefish) species was predicted to be higher than that reported in PacFIN and the landed catch of Petrale sole and “other flatfish” species were predicted to be lower than that reported in PacFIN. Therefore, model predictions were scaled to account for these differences based on PacFIN landed catch estimates from January through February 2004 and landed catch estimates during the same period in 2003.

In order to provide additional fishing opportunity for the northern limited entry trawl fleet, which has been severely restricted to reduce the incidental catch of canary rockfish, the size of the trawl rockfish conservation area (the area closed to fishing for groundfish with trawl gear) or RCA, between the U.S. border with Canada and 40°10′ N. lat., is being decreased for the remainder of 2004. The western boundary of the trawl RCA is being moved from specific latitude and longitude coordinates approximating the 200-fm (366-m) depth contour to specific latitude and longitude coordinates approximating the 150-fm (274-m) depth contour. As a result, in the area between the U.S. border with Canada and 40°10′ N. lat. the trawl RCA will be located between specific latitude and longitude coordinates approximating the 150-fm (274-m) and 60-fm (110-m) depth contours during May-June and between specific latitude and longitude coordinates approximating the 150-fm (274-m) and 75-fm (137-m) depth contours during July-December. Reducing the size of the trawl RCA for the remainder of the year is possible because new observer data indicate that the catch of overfished species, specifically darkblotched rockfish, is lower than predicted in this area. Additionally, canary rockfish are most commonly found in waters 50 fm (91 m) to 150 fm (274 m) in depth. Therefore, this reduction in the size of the trawl RCA is not predicted to result in increased catch of canary rockfish nor is it predicted to cause any overfished groundfish species OY to be exceeded.

Because of updated trawl bycatch model results, incorporating new observer data and following the trawl buyback, and landed catch data through the end of February 2004, limited entry trawl trip limits for certain deepwater, slope species can be increased for the remainder of the year. Therefore, in the area between the U.S. border with Canada and 40°10′ N. lat., the limited entry trawl trip limit for minor slope rockfish will be increased from 4,000 lb (18,144 kg) per two months to 8,000 lb (3,629 kg) per two months for May through December. In the area between 40°10′ N. lat. and the U.S. border with Mexico, the limited entry trawl large footrope limit for chilipepper rockfish will be increased from 2,000 lb (907 kg) per two months to 12,000 lb (5,443 kg) per two months during May through August and to 8,000 lb (3,629 kg) per two months during September through December. Increases to trip limits for chilipepper in 2004 are possible, in part, due to the increase in the bocaccio OY (≤ 20 mt in 2003 to 250 mt in 2004). The low bocaccio OY in 2003 limited the allowable harvest of chilipepper rockfish, as chilipepper rockfish and bocaccio rockfish are known to co-occur. However, this inseason action's trip limit increases for chilipepper are not predicted to exceed the bocaccio rockfish OY. Additionally, in the area between 40°10′ N. lat. and 38°00′ N. lat., limited entry trawl limits for minor slope rockfish and splitnose rockfish will each be increased from 7,000 lb (3,175 kg) per two months to 50,000 lb (22,680 kg) per two months during May through December. Trip limits had been set at a precautionary level at the beginning of 2004, pending the release of new observer data. Because the new observer data indicate that the incidental catch of overfished species, specifically darkblotched rockfish, is lower than expected, target limits may be increased. In the area between 38°00′ N. lat. and the U.S. border with Mexico, limited entry trawl limits for minor slope rockfish and splitnose rockfish will each be increased from 40,000 lb (18,144 kg) per two months to 50,000 lb (22,680 kg) per two months during May through December. A limiting factor to increasing minor slope rockfish and splitnose rockfish trip limits in this area is the catch of blackgill rockfish. However, the allowable harvest of blackgill rockfish can support the Pacific Council's recommended trip limit increase of 40,000 lb (18,144 kg) per two months to 50,000 lb (22,680 kg) per two months during May through December.

In summary, a reduction in the size of the trawl RCA and increased trip limits for deepwater, slope species are possible because the trawl bycatch model, updated with new observer data and the results of the trawl buyback program, found the incidental catch of overfished species to be lower than previously estimated in the areas affected by these inseason adjustments. The incidental catch of overfished species will continue to be minimized by the trawl RCA in areas and during seasons when the incidental catch of overfished species is high, as well as conservative trip limits for target species known to co-occur with overfished species.

Limited Entry Fixed Gear Fishery

NMFS began modeling discard rates of sablefish and incidental catch rates of overfished species in the primary sablefish fishery in late 2003 and early 2004. The approach for modeling discard and incidental catch in the 2004 sablefish fishery is to use fleetwide, season-long estimates of discard and incidental catch and apply those rates to the allowable harvest in the primary sablefish fishery. Using this method and incorporating observer data from 2001 through 2003, the discard of sablefish and the incidental catch of overfished species projected for the primary sablefish fishery in 2004 is lower than previously assumed. In the past, the assumed discard mortality of sablefish was eight percent. Based on new observer data, the discard mortality of sablefish in the primary sablefish fishery is now predicted to be approximately 3.5 percent. This means that the updated discard mortality of sablefish is now less than half the amount that was used to develop sablefish tier limits in September 2003. By incorporating the new sablefish discard rate into the fixed gear bycatch model, sablefish tier limits can be increased to help achieve, but not exceed, the sablefish OY. Therefore, the Pacific Council recommended that the 2004 sablefish tier limits be increased. The revised tier limits for the 2004 primary sablefish fishery are increased by approximately 12 - 13 percent and they are as follows: Tier 1 - 69,600 lb (31,570 kg), Tier 2 - 31,600 lb (14,334 kg), and Tier 3 - 18,100 lb (8,210 kg).

In keeping with trip limit increases for deepwater, slope species in the limited entry trawl fishery, the Pacific Council also recommended increasing the minor slope rockfish and splitnose rockfish trip limits for the limited entry fixed gear fishery. Therefore, in the area between 40°10′ N. lat. and 38°00′ N. lat., limited entry fixed gear limits for minor slope rockfish and splitnose rockfish will each be increased from 7,000 lb (3,175 kg) per two months to 50,000 lb (22,680 kg) per two months during May through December. Similarly, in the area between 38°00′ N. lat. and the U.S. border with Mexico, limited entry fixed gear limits for minor slope rockfish and splitnose rockfish will each be increased from 40,000 lb (18,138 kg) per two months to 50,000 lb (22,680 kg) per two months during May through December. Much like the trip limit increases in the limited entry trawl fishery, increasing tier limits in the primary sablefish fishery and trip limits for deepwater, slope species in the limited entry fixed gear fishery will provide access to healthy groundfish stocks while protecting depleted and overfished groundfish species. The non-trawl RCA will continue to protect overfished species in areas and during seasons when the incidental catch of overfished species is high.

Retention of Incidental Halibut Catch in the Primary Sablefish Fishery North of Pt. Chehalis, WA

The Pacific halibut CSP and implementing regulations at 50 CFR 300.63(a)(3) provide for retention of halibut landed incidentally in the limited entry, longline primary sablefish fishery north of Pt. Chehalis, WA (46°53′18″ N. lat.) in years when the Area 2A TAC is above 900,000 lb (408.2 mt). The 2004 Area 2A TAC is 1,480,000 lb (671.3 mt).

According to IPHC and Federal regulations, Pacific halibut may not be taken by gear other than hook-and-line gear. Only vessels registered for use with sablefish-endorsed limited entry permits may participate in the primary fixed gear sablefish fishery specified for halibut retention in the CSP. Vessels must also carry IPHC commercial halibut licenses in order to retain and land halibut. Incidental halibut retention in the primary sablefish fishery is only available to vessels operating north of Pt. Chehalis, WA (46°53′18″ N. lat.). Under Pacific halibut regulations at 50 CFR 300.63, halibut taken and retained in the primary sablefish fishery may not be possessed or landed south of Pt. Chehalis, WA (46°53′18′ N. lat.).

Similar to 2003, halibut caught incidentally in the primary sablefish fishery may be retained by appropriately licensed longline vessels. In 2004, the amount of incidental halibut retained in the primary sablefish fishery is capped at 70,000 lb (31.8 mt), to ensure that the fishery is maintained as an incidental and not a directed fishery. Beginning May 1, 2004, and continuing until the halibut quota (70,000 lbs or 31.8 mt) is taken: longliners participating in the primary sablefish fishery north of Pt. Chehalis, WA (46°53′18′ N. lat.) with appropriate IPHC licenses may retain incidental halibut landings up to 100 lbs (45 kg) (dressed weight) of halibut for every 1,000 lbs (454 kg) (dressed weight) of sablefish landed and up to two additional halibut in excess of the 100 lb (45 kg) per 1,000 lb (454 kg) ratio per landing. Halibut may not be on board a vessel that has any gear other than longline gear on board (e.g., pot or trawl gear).

Voluntary “C-shaped” Closure off Washington for the Sablefish and Salmon Troll Fisheries

In 2004, the Washington Department of Fish and Wildlife recommended and NMFS implemented a “C-shaped” Yelloweye Rockfish Conservation Area (YRCA) to protect yelloweye rockfish, an overfished species (see 50 CFR 660.304 (d)). For 2004, the “C-shaped” YRCA is a mandatory closed area for recreational groundfish and Pacific halibut fishing. To further protect yelloweye rockfish, the Pacific Council has recommended that the “C-shaped” YRCA in the North Coast subarea (Washington Marine Area 3) also be designated as an area to be avoided (a voluntary closure) by commercial fixed gear (longline) sablefish fishermen and salmon trollers to protect yelloweye rockfish. Much of the YRCA is already closed to commercial groundfish hook-and-line access, including the fixed gear sablefish fishery, by the non-trawl RCA, which extends from the Washington shoreline to specific latitude and longitude coordinates that approximate the 100-fm (183-m) depth contour.

Recreational Groundfish Fishery

At the Pacific Council's April 4-9, 2004, meeting in Sacramento, CA, the projected catch in the Pacific Coast recreational fisheries was updated for 2004. The states of Washington and Oregon updated their projected catch for 2004 with recreational catch data from 2003. Because 2003 was a year of unusually high effort and catch in California's recreational fisheries, the California Department of Fish and Game (CDFG) did not think it would be accurate to use 2003 catch data as a basis for projecting catch in 2004. In an effort to reduce the catch of overfished rockfish species, specifically canary rockfish and lingcod, California's recreational fisheries were closed for the first six months of 2003 (January-June). When California's recreational fishery opened in July 2003, the closure earlier in the year is thought to have resulted in a “derby” style fishery with above average effort and catch reported by MRFSS (Marine Recreational Fishery Statistical Survey) Wave Four (July-August) data. In comparison to Wave Four data, MRFSS Wave Five data (September-October) were more reflective of historical effort and catch during California's recreational fisheries and was not affected by the “derby” fishery. Therefore, in order to model projected catch for their 2004 recreational fishery, CDFG created an adjusted 2003 dataset. This adjusted 2003 dataset used the effort estimates from MRFSS′ Wave Five data to adjust catches for all waves in 2003. Because this adjusted 2003 dataset accounted for the “derby” response to the closure during January-June 2003 and added projected catches for closed periods during 2003, it provides a better estimate of catch in 2004 than an unadjusted 2003 dataset.

When modeling projected catch in 2004 recreational fisheries, limiting the catch of canary rockfish continues to be the most constraining factor influencing management measures for the recreational fisheries in 2004. After receiving updates from the states of Washington, Oregon, and California on their projected recreational catch during 2004 at the April meeting, the Pacific Council initially recommended maintaining a harvest allowance for canary rockfish based on the 2004 management measures adopted in September 2003. At that time, the Pacific Council recommended management measures that were not projected to fully utilize the allowable harvest of canary rockfish, instead opting to reserve a portion of the allowable harvest, in part, to accommodate a potential increase in the incidental catch rate of canary rockfish if it were documented by the Observer Program. Because the new observer data do not show a substantial increase in the incidental catch rate of canary rockfish, the Pacific Council recommended management measures that are projected to use some of previously reserved portion of the canary rockfish allowable harvest. The Pacific Council did not recommend changes to recreational management measures for Washington or Oregon. However, to ensure that recreational catch of canary rockfish, stays within state harvest allowances, Washington and Oregon will continue to monitor inseason catch and will prohibit recreational groundfish fisheries seaward of specific latitude and longitude coordinates approximating the 30-fm (55-m) depth contour if catch is expected to exceed state harvest allowances. Because canary rockfish are not commonly found in waters less than 50 fm (91 m) in depth, implementing a 30-fm (55-m) closure would reduce the catch of canary rockfish to near zero.

In an effort to keep projected recreational catch of overfished groundfish species, particularly canary rockfish and lingcod, within California's harvest allowance, the Pacific Council recommended several inseason adjustments for all federally managed groundfish species in the recreational fishery. Additionally, the Pacific Council recommended that California take state regulatory action to make conforming inseason adjustments to the management measures for the following state managed species: greenlings of the genus Hexagrammos, ocean whitefish, and California sheephead. Inseason adjustments to the recreational fishery off California are described in the following text: In the area between 42°00′ N. lat. and 40°10′ N. lat., recreational fishing for groundfish is prohibited seaward of specific latitude and longitude coordinates approximating the 30-fm (55-m) depth contour during May through December. The retention of black rockfish in this same area is prohibited during May and September through December. In the area between 40°10′ N. lat. and 36°00′ N. lat., recreational fishing for groundfish is prohibited during May through July and November through December and it is prohibited seaward of the 20-fm (37-m) depth contour during September and October. In the area between 36°00′ N. lat. and 34°27′ N. lat., recreational fishing for groundfish is prohibited during July and it is prohibited seaward of the 20-fm (37-m) depth contour during September through December. Additionally, in the area between 34°27′ N. lat. and the U.S. border with Mexico, recreational fishing for groundfish is prohibited seaward of specific latitude and longitude coordinates approximating the 30-fm (55-m) depth contour during September and October. These inseason adjustments, combined with adjustments to management measures published at 69 FR 23440, April 29, 2004, are predicted to keep 2004 harvest within the OYs for all overfished groundfish species, specifically canary rockfish and lingcod.

This inseason action also contains a new provision for ocean “boat limits” in the recreational fishery coastwide. The provision allows each fisher aboard a vessel off the coast of Washington, Oregon, and California to continue to use angling gear until the combined daily limits of groundfish for all licensed and juvenile anglers aboard has been attained. The purpose of this provision is to make Federal regulations consistent with the regulations of the above states. Washington has had a boat limit provision in place for a number of years, but Oregon and California have recently adopted such limits. The specific requirements are different in each state, but the intent is similar.

Anglers should be aware that additional state restrictions may apply, in addition to the Federal regulation.

Therefore, anglers should consult the specific regulations of their state for the exact language.

Corrections

This action corrects language in the trip limit tables, Table 3 (North) and Table 3 (South), describing restrictions on multiple types of trawl gear on board. Previous language in the trip limit tables read, “A vessel may have more than one type of limited entry bottom trawl gear on board, but the most restrictive trip limit associated with the gear on board applies for that trip and will count toward the cumulative trip limit for that gear. A vessel may not have limited entry bottom trawl gear on board if that vessel also has trawl gear on board that is permitted for use within a RCA, including limited entry midwater trawl gear, regardless of whether the vessel is intending to fish within a RCA on that fishing trip. See IV.A.(14)(iv) for details.” This language is more restrictive than the language from Section IV.A.(14)(iv), which allows midwater gear to be onboard a vessel that also has large or small footrope gear on board as long as that vessel does not fish in a closed area. Language in Section IV.A.(14)(iv) reflects the intended language as described in the response to Comment 22 from the final rule for the 2003 groundfish specifications and management measures (68 FR 11182, March 7, 2003). Therefore, the corrected language in the trip limit tables will be consistent with Section IV.A.(14)(iv) and read, “A vessel may have more than one type of limited entry bottom trawl gear on board, but the most restrictive trip limit associated with the gear on board applies for that trip and will count toward the cumulative trip limit for that gear. A vessel that is trawling within the RCA (or other closed area) with trawl gear authorized for use within the RCA (or other closed area) may not have any other type of trawl gear on board. See IV.A.(14)(iv) for details.”

This inseason action also corrects the titles of some sections of the recreational regulations for the waters off California by removing the term “boat limits” from some sections formerly entitled “bag limits, boat limits, hook limits” because boat limits are no longer included in those sections.

NMFS Actions

For the reasons stated herein, NMFS concurs with the Pacific Council's recommendations and hereby announces the following changes to the 2004 specifications and management measures (69 FR 11064, March 9, 2004, as amended at 69 FR 23440, April 29, 2004) to read as follows:

1. On pages 11108-11114, in section IV., under B. Limited Entry Fishery, at the end of paragraph (1), Table 3 (North), Table 3 (South), Table 4 (North), and Table 4 (South) are revised to read as follows:

B. Limited Entry Fishery

(1) * * *

* * * * *

BILLING CODE 3510-22-S

BILLING CODE 3510-22-C

2. On page 11114, in section IV., under B. Limited Entry Fishery, in column 1, revise paragraph (2)(b)(i) and add paragraph (2)(b)(i)(A) to read as follows:

B. Limited Entry Fishery

(2) * * *

(b) * * *

(i) Primary season. The primary season begins at 12 noon l.t. on April 1, 2004, and ends at 12 noon l.t. on October 31, 2004. There are no pre-season or post-season closures. During the primary season, each vessel with at least one limited entry permit with a sablefish endorsement that is registered for use with that vessel may land up to the cumulative trip limit for each of the sablefish-endorsed limited entry permits registered for use with that vessel, for the tier(s) to which the permit(s) are assigned. For 2004, the following limits are in effect: Tier 1, 69,600 lb (31,570 kg); Tier 2, 31,600 lb (14,334 kg); Tier 3, 18,100 lb (8,210 kg). All limits are in round weight. If a vessel is registered for use with a sablefish-endorsed limited entry permit, all sablefish taken after April 1, 2004, count against the cumulative limits associated with the permit(s) registered for use with that vessel.

(A) Incidental halibut retention north of Pt. Chehalis, WA (46°53′18″ N. lat). Vessels authorized to participate in the primary sablefish fishery, licensed by the International Pacific Halibut Commission for commercial fishing in Area 2A (waters off Washington, Oregon, California), and fishing with longline gear north of Pt. Chehalis, WA (46°53′18” N. lat.) may land up to the following cumulative limits: 100 lb (45 kg) dressed weight of halibut per 1,000 lb (454 kg) dressed weight of sablefish, plus up to two additional halibut per fishing trip in excess of this ratio. “Dressed” halibut in this area means halibut landed eviscerated with their heads on. Halibut taken and retained in the primary sablefish fishery north of Pt. Chehalis may only be landed north of Pt. Chehalis and may not be possessed or landed south of Pt. Chehalis.

(B) [Reserved]

* * * * *

3. In section IV., paragraph D. Recreational Fishery, is revised to read as follows:

* * * * *

D. Recreational Fishery

Federal recreational groundfish regulations are not intended to supersede any more restrictive State recreational groundfish regulations relating to federally-managed groundfish. Off the coast of Washington, Oregon, and California, boat limits apply, whereby each fisher aboard a vessel may continue to use angling gear until the combined daily limits of groundfish for all licensed and juvenile anglers aboard has been attained (additional state restrictions on boat limits may apply).

* * * * *

4. In section IV., under D. Recreational Fishery, paragraph (3) is revised to read as follows:

* * * * *

(3) California. Seaward of California (north and south of 40°10′ N. lat.), California law provides that, in times and areas when the recreational fishery is open, there is a 20-fish bag limit for all species of finfish, within which no more than 10 fish of any one species may be taken or possessed by any one person. Retention of cowcod, yelloweye rockfish, and canary rockfish is prohibited in the recreational fishery seaward of California all year in all areas. California state law may provide similar regulations for the following state-managed species: ocean whitefish, California sheephead, and all greenlings of the genus Hexogrammos except kelp greenling. Kelp greenling is the only federally-managed greenling.

* * * * *

5. In section IV., under D. Recreational Fishery, paragraphs (3)(a)(i) and (ii) are redesignated paragraphs (3)(a)(ii) and (iii), respectively, and a new paragraph (3)(a)(i) is added to read as follows:

* * * * *

(3) California. * * *

(a) North of 40°10′ N. lat. * * *

(i) Closed Areas/Recreational Rockfish Conservation Areas. The recreational Rockfish Conservation Areas, or recreational RCAs, are areas that are closed to recreational fishing for groundfish. Between 42° N. lat. (Oregon/California border) and 40°10′ N. lat., recreational fishing for all groundfish is prohibited seaward of a boundary line approximating the 30-fm (55-m) depth contour along the mainland coast and along islands and offshore seamounts during May 1 through December 31. Coordinates for the boundary line approximating the 30-fm (55-m) depth contour are listed in section IV.A.(17)(f).

* * * * *

6. In section IV., under D. Recreational Fishery, in the newly redesignated paragraph (3)(a)(ii), subparagraphs (B) and (B)(2) are revised to read as follows:

* * * * *

(ii) RCG Complex. * * *

(B) Bag limits, hook limits.* * *

(2) From May 1 through December 31, the bag limit is 10-RCG Complex fish per day (not including canary rockfish, yelloweye rockfish and cowcod, which are prohibited), of which up to 10 may be rockfish, no more than 2 of which may be bocaccio. Retention of black rockfish is prohibited from May 1 through 31 and from September 1 through December 31. Also within the 10-RCG Complex fish per day limit, no more than 2 fish per day may be greenling (kelp, and under state law, other greenlings) and no more than 3 fish per day may be cabezon. Multi-day limits are authorized by a valid permit issued by California and must not exceed the daily limit multiplied by the number of days in the fishing trip.

* * * * *

7. In section IV., under D. Recreational Fishery, in the newly redesignated paragraph (3)(a)(iii), subparagraph (B) is revised to read as follows:

* * * * *

(iii) Lingcod. * * *

(B)Bag limits, hook limits.* * *

* * * * *

8. In section IV., under D. Recreational Fishery, paragraph (3)(b)(i)(B)(1) is revised, paragraph (3)(b)(i)(B)(2) is redesignated paragraph (3)(b)(i)(B)(3) and revised and a new paragraph (3)(b)(i)(B)(2) is added to read as follows:

* * * * *

(3) California. * * *

(b) South of 40°10′ N. lat. * * *

(i) Closed Areas. * * *

(B) Recreational Rockfish Conservation Areas. * * *

(1) Between 40°10′ N. lat. and 36° N. lat., recreational fishing for all groundfish, except sanddabs, is prohibited seaward of a boundary line approximating the 30-fm (55-m) depth contour along the mainland coast and along islands and offshore seamounts during January 1 through February 29; is prohibited seaward of the 20-fm (37-m) depth contour during August 1 through October 31; and is closed entirely during March 1 through July 31 and during November 1 through December 31 (i.e., prohibited seaward of the shoreline). Coordinates for the boundary line approximating the 30-fm (55-m) depth contour are listed in section IV.A.(17)(f). Under state law, recreational fishing for rockfish, lingcod, and associated species limited to cabezon, greenlings of the genus Hexagrammos, California scorpionfish, California sheephead, and ocean whitefish are prohibited between the shoreline and the 10-fm (18-m) depth contour around the Farallon Islands. For a definition of the Farallon Islands, see paragraph IV.A.(17)(f). Recreational fishing for certain groundfish species is also prohibited in waters of the Cordell Banks, located at 38°02′ N. lat. and 123°25′ W. long., and within a 5 nautical mile radius around this point. This portion of the Cordell Banks is closed to fishing for rockfish, lingcod, cabezon, kelp greenlings and California scorpionfish. (Note: California state regulations also prohibit the retention of other greenlings of the genus Hexagrammos, California sheephead and ocean whitefish.) For a definition of Cordell Banks, see paragraph IV.A.(17)(f).

(2) Between 36° N. lat. and 34°27′ N. lat., recreational fishing for all groundfish, except sanddabs, is prohibited seaward of a boundary line approximating the 30-fm (55-m) depth contour along the mainland coast and along islands and offshore seamounts during January 1 through February 29; is prohibited seaward of the 20-fm (37-m) depth contour during May 1 through June 30 and during August 1 through December 31; and is closed entirely during March 1 through April 30 and during July 1 through July 31 (i.e., prohibited seaward of the shoreline). Coordinates for the boundary line approximating the 30-fm (55-m) depth contour are listed in section IV.A.(17)(f).

(3) South of 34°27′ N. lat., recreational fishing for all groundfish, except sanddabs, is prohibited seaward of a boundary line approximating the 60-fm (110-m) depth contour along the mainland coast and along islands and offshore seamounts during March 1 through August 31 and during November 1 through December 31; is prohibited seaward of the 30-fm (55-m) depth contour during September 1 though October 31; and is closed entirely during January 1 through February 29 (i.e., prohibited seaward of the shoreline), except in the CCAs where fishing is prohibited seaward of the 20-fm (37-m) depth contour in paragraph (A) of this section. Coordinates for the boundary line approximating the 60-fm (110-m) depth contour are listed in section IV.A.(17)(f).

* * * * *

9. In section IV., under D. Recreational Fishery, paragraph (3)(b)(ii)(B) is revised to read as follows:

* * * * *

(ii) RCG Complex. * * *

(B) Bag limits, hook limits.* * *

* * * * *

10. In section IV., under D. Recreational Fishery, paragraph (3)(b)(iii)(B) is revised to read as follows:

* * * * *

(iii) California scorpionfish.* * *

(B) Bag limits, hook limits.* * *

* * * * *

11. In section IV., under D. Recreational Fishery, paragraph (3)(b)(iv)(B) is revised to read as follows:

* * * * *

(iv) Lingcod. * * *

(B) Bag limits, hook limits.* * *

* * * * *

Classification

These actions are authorized by the Pacific Coast groundfish FMP, the Halibut Act, and their implementing regulations and are based on the most recent data available. The aggregate data upon which these actions are based are available for public inspection at the Office of the Administrator, Northwest Region, NMFS, (see ADDRESSES) during business hours.

The Assistant Administrator for Fisheries NOAA, NMFS, finds good cause to waive the requirement to provide prior notice and opportunity for public comment on this action pursuant to 5 U.S.C. 553(b)(B), because providing prior notice and opportunity for comment would be impracticable and unnecessary. Providing prior notice and comment on the inseason adjustments would be impracticable because the data upon which these recommendations were based were provided to the Pacific Council and the Pacific Council made its recommendations at its April 4-9, 2004, meeting in Sacramento, CA. As described below, there is not sufficient time after that meeting to draft this notice and undergo proposed and final rulemaking before the beginning of the next cumulative limit period, May 1, 2004, when these actions need to be in effect. Many of the previously scheduled management measures for the May-June period are more liberal than the adjustments contained in this inseason action. Therefore, for the actions to be implemented in this notice, prior notice and opportunity for comment would be impracticable because affording prior notice and opportunity for public comment would take too long, thus impeding the Agencys function of managing fisheries to approach without exceeding the OYs for federally managed species.

Adjustments to management measures in this inseason action include changes to the management measures for the recreational groundfish fisheries and the limited entry groundfish fisheries. Changes to management measures for California's recreational fishery implemented with this inseason action are more conservative than previously scheduled regulations. These more conservative management measures must be implemented in a timely manner to protect overfished groundfish species, such as canary rockfish and lingcod, by keeping the mortality of these species within the levels projected for the recreational fishery off California in 2004. The area and season closures described in this inseason action prohibit recreational fishing for groundfish off California in areas and during seasons when the recreational fishery is most likely to encounter canary rockfish and lingcod. When modeling projected catch in the recreational fishery off California, it was apparent that changes to California's recreational management measures must be in effect by May 1, 2004, in order to keep the harvest of these overfished species within their OYs and allow for continued rebuilding of their stocks. Delaying these changes to management measures could lead to early closures of the fishery causing unnecessary economic hardships on coastal communities and contradicting a primary objective of the FMP, which is to provide for year-round harvest opportunities. Additional harvest opportunities for the limited entry groundfish fisheries also need to be implemented in a timely manner and prior to the start of the next cumulative limit period, May 1, 2004. These harvest opportunities provide much needed revenue for both the trawl and fixed gear fleets by providing access to healthy, deepwater groundfish stocks with minimal impacts on overfished species. Delays in implementing these additional harvest opportunities may prevent the limited entry fleets from being able to harvest the entire OYs for deepwater, slope species.

It is also impracticable to provide prior notice and opportunity for comment for implementing boat limits in the recreational groundfish fishery coastwide because these actions serve to ensure consistency between state and Federal regulations. The States of Washington, Oregon, and California have already implemented boat limits in their recreational regulations, therefore, implementing this adjustment in a timely fashion is important to minimize conflicting regulations. Additionally, limits are combined daily limits of groundfish for all licensed anglers aboard a vessel. It is not predicted that there will be a net change in the harvest of groundfish resulting from boat limits or cumulative individual bag limits. It is unnecessary to provide prior notice and opportunity for comment on the corrections contained in this inseason action because the corrections have no substantive effect on the public.

For these reasons, good cause also exists to waive the 30 day delay in effectiveness requirement under 5 U.S.C. 553 (d)(3).These actions are taken under the authority of 50 CFR 300.63(a)(3)and 660.323(b)(1) and are exempt from review under Executive Order 12866.

Authority: 16 U.S.C. 773-773k; 1801 et seq.

Dated: April 29, 2004.
Alan D. Risenhoover,
Acting Director, Office of Sustainable Fisheries, National Marine Fisheries Service.

[FR Doc. 04-10206 Filed 4-30-04; 4:38 pm]

BILLING CODE 3510-22-S